NATIONAL AERONAUTICS AND SPACE ADMINISTRATION

[Notice (05-098)]

Government-Owned Inventions, Available for Licensing

AGENCY: National Aeronautics and Space Administration.

ACTION: Notice of availability of inventions for licensing.

SUMMARY: The inventions listed below assigned to the National Aeronautics and Space Administration, have been filed in the United States Patent and Trademark Office, and are available for licensing.

DATES: June 8, 2005.

FOR FURTHER INFORMATION CONTACT: Robert M. Padilla, Patent Counsel, Ames Research Center, Code 202A-4, Moffett Field, CA 94035-1000; telephone (650) 604-5104; fax (650) 604-2767.

NASA Case No. ARC-15448-1: Whole Cell MRNA/DNA Identification Procedure;

NASA Case No. ARC-ARC 14569-1: Spatial Standard Observer;

NASA Case No. ARC-15392-1: Delay Banking For Air Traffic Management;

NASA Case No. ARC-15356-2: Historical Analysis of Aircraft Flight Parameters;

NASA Case No. ARC-15356-3: Real-Time Analysis and Display of Aircraft Approach Maneuvers;

NASA Case No. ARC-15450-1: Recovery and Nonrecovery Bands for Flight Parameter Values and Prediction of Future Values for An Aircraft in Motion;

NASA Case No. ARC-15522-1: Image Compression Encoding With Perceptual Distortion Control;

NASA Case No. ARC-14995-1: Egg Viability Detection Circuit;

NASA Case No. ARC-15475-1: Methods for Stimulating Nervous System Regeneration and Repair by Pharmacological Activation of STAT3 Alpha.

Dated: May 31, 2005.
Keith T. Sefton,
Deputy General Counsel, Administration and Management.

[FR Doc. 05-11301 Filed 6-7-05; 8:45 am]

BILLING CODE 7510-13-P